DEPARTMENT OF DEFENSE

Office of the Secretary

[Transmittal No. 21-0I]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 21-0I.

Dated: February 9, 2023.
Aaron T. Siegel,
Alternate OSD Federal Register Liaison Officer, Department of Defense.

BILLING CODE 5001-06-P

BILLING CODE 5001-06-C

Transmittal No. 21-0I

Report of Enhancement or Upgrade of Sensitivity of Technology or Capability (Sec. 36(b)(5)(C), AECA)

(i) Purchaser: NATO Support and Procurement Agency (NSPA).

(ii) Sec. 36(b)(1), AECA Transmittal No.: 17-19.

Date: April 27, 2017

Military Department: Air Force

Funding Source: Participants' National Funds

(iii) Description: On April 27, 2017, Congress was notified by Congressional certification transmittal number 17-19 of the possible sale, under Section 36(b)(1) of the Arms Export Control Act, of follow-on support for three (3) C-17 aircraft to include participation in the Global Reach Improvement Program, contract labor for Class I modifications and kits, in-country contractor support, alternate mission equipment, major modification and retrofit, software support, aircraft maintenance and technical support, support equipment, personnel training and training equipment, additional spare and repair parts, technical orders and publications, airworthiness certification support, engine logistics support, inspections, and other U.S. Government and contractor engineering, logistics and program support. The total estimated cost was $300 million. There was no Major Defense Equipment (MDE) associated with this sale.

This transmittal reports the addition of non-MDE follow-on support for the C-17 fleet to include aircraft and engine hardware and software modification and support; contractor logistics support, with further participation in the Globemaster III Integrated Sustainment Program (GISP), Globemaster III Sustainment Contract (G3SC), Material Improvement Program (MIP), and Over and Above (O&A).

The total value of new non-MDE follow-on support is $170 million. This results in a revised total non-MDE value of $470 million. The total case value will increase to $470 million.

(iv) Significance: This notification is provided as the additional non-MDE follow-on support was not enumerated in the original notification. The proposed articles and services will support the NATO Support and Procurement Agency to create appropriate line items to capture, execute, and easily reconcile the anticipated price increase of the upcoming C-17 sustainment contract. This program flies missions in and around Europe, Afghanistan, Iraq, the Levant, and North Africa.

(v) Justification: This proposed sale will support the foreign policy and national security of the United States by helping to improve the security of NATO allies and partner nations that are an important force for ensuring peace and stability in Europe.

(vi) Date Report Delivered to Congress: August 3, 2021.

[FR Doc. 2023-03120 Filed 2-13-23; 8:45 am]

BILLING CODE 5001-06-P